DEPARTMENT OF COMMERCE

International Trade Administration

[A-570-992]

Monosodium Glutamate From the People's Republic of China: Amended Preliminary Determination of Sales at Less Than Fair Value of the Antidumping Duty Investigation

AGENCY: Enforcement and Compliance, International Trade Administration, Department of Commerce.

SUMMARY: The Department of Commerce (“the Department”) is amending the preliminary determination of the less-than-fair-value investigation of monosodium glutamate (“MSG”) from the People's Republic of China (“PRC”) to correct certain ministerial errors.¹ The period of investigation (“POI”) is January 1, 2013, through June 30, 2013.

¹ Monosodium Glutamate from the People's Republic of China: Preliminary Determination of Sales at Less Than Fair Value, Preliminary Affirmative Determination of Critical Circumstances, and Postponement of Final Determination, 79 FR 26408 (May 8, 2014) (“Preliminary Determination”).

DATES: Effective Date: June 13, 2014.

FOR FURTHER INFORMATION CONTACT: Milton Koch, or Jun Jack Zhao, AD/CVD Operations, Office VII, Enforcement and Compliance, International Trade Administration, U.S. Department of Commerce, 14th Street and Constitution Avenue NW., Washington, DC 20230; telephone: (202) 482-2584, or (202) 482-1396, respectively.

SUPPLEMENTARY INFORMATION:

Background

On May 7, 2014, the Department disclosed to interested parties its calculations for the Preliminary Determination. On May 13, 2014, we received ministerial error comments from Ajinomoto North America Inc. (“Petitioner”); and Langfang Meihua Bio-Technology Co., Ltd., Meihua Holdings Group Co., Ltd., and Tongliao Meihua Biological SCI-TECH Co., Ltd. (collectively, the Meihua Group), alleging that the Department made ministerial errors in the calculation of the Meihua Group's weighted-average dumping margin.²

² See Letter from Petitioner, “Antidumping Duty Investigation on Monosodium Glutamate from China: Ministerial Error Comments,” dated May 13, 2014; and letter from the Meihua Group: “Monosodium Glutamate from the People's Republic of China: Ministerial Error Comments,” dated May 13, 2014.

Scope of the Investigation

The scope of this investigation covers MSG, whether or not blended or in solution with other products. Specifically, MSG that has been blended or is in solution with other product(s) is included in this scope when the resulting mix contains 15 percent or more of MSG by dry weight. For a full description of the products covered by the less-than-fair-value investigation, see the Memorandum to Paul Piquado, Assistant Secretary, Enforcement and Compliance, from Christian Marsh, Deputy Assistant Secretary, “Preliminary Determination of the Less-Than-Fair-Value Investigation of Monosodium Glutamate from the People's Republic of China: Ministerial Error Allegations Memorandum,” dated concurrently with and hereby adopted by this notice (“Ministerial Error Memo”). The Ministerial Error Memo is on file electronically via Enforcement and Compliance's Antidumping and Countervailing Duty Centralized Electronic Service System (“IA ACCESS”). Access to IA ACCESS is available to registered users at http://iaaccess.trade.gov, and is available to all parties in the Central Records Unit, which is in room 7046 of the main Department of Commerce building. A list of the issues discussed in the Ministerial Error Memo is attached to this notice an appendix.

Ministerial Errors

Ministerial errors are defined in 19 CFR 351.224(f) as an error “in addition, subtraction, or other arithmetic function, clerical error resulting from inaccurate copying, duplication, or the like, and any similar type of unintentional error which the Secretary considers ministerial.” 19 CFR 351.224(e) provides that the Department “will analyze any comments received and, if appropriate, correct any significant ministerial error by amending the preliminary determination.” A significant ministerial error is defined as a ministerial error, the correction of which, singly or in combination with other errors, would result in: (1) A change of at least five absolute percentage points in, but not less than 25 percent of, the weighted-average dumping margin calculated in the original (erroneous) preliminary determination; or (2) a difference between a weighted-average dumping margin of zero or de minimis and a weighted-average dumping margin of greater than de minimis or vice versa.³

³ See 19 CFR 351.224(g).

After analyzing the ministerial error comments, we determine, in accordance with 19 CFR 351.224(e), that we made the following ministerial errors in our calculations for the Preliminary Determination: We inadvertently miscalculated the Meihua Group's organic bacteria protein by-product, high protein scrap by-product, foreign inland freight distance, home country distances and freight charges, 20-foot container weight for brokerage and handling expenses, and certain inputs for the production of MSG. Moreover, we determine that these errors in combination constitute a “significant ministerial error” as defined in 19 CFR 351.224(g)(1). Accordingly, we corrected these errors. As a result of correcting these errors in the calculation of the Meihua Group's weighted-average dumping margin, the weighted-average dumping margin for the companies granted separate-rate status must also be revised because the rate for those companies was derived from the Meihua Group's rate.⁴ The weighted-average dumping margin for the PRC-wide entity also must be revised because it was based on the Meihua Group's highest transaction-specific dumping margin.⁵ For a detailed discussion of these ministerial errors, as well as the Department's analysis, see the Ministerial Error Memo.

⁴ See Memorandum to Paul Piquado, Assistant Secretary for Enforcement and Compliance, “Decision Memorandum for the Preliminary Determination of Sales at Less Than Fair Value, Affirmative Preliminary Determination of Critical Circumstances, and Postponement of Final Determination of the Antidumping Duty Investigation of Monosodium Glutamate from the People's Republic of China (May 1, 2014), at 12.

⁵ Id. at 14.

In accordance with 19 CFR 351.224(e), we are amending the Preliminary Determination of the less-than-fair-value investigation of MSG from the PRC. The revised weighted-average dumping margins are detailed below.

Amended Preliminary Determination

As a result of the correction of the ministerial error, the amended weighted-average dumping margins for the preliminary determination are as follows:

Exporter | Producer | Weighted- average dumping margin (percent)
Langfang Meihua Bio-Technology Co., Ltd./Meihua Group International Trading (Hong Kong) Limited | Tongliao Meihua Biological SCI-TECH Co., Ltd./Meihua Holdings Group Co., Ltd., Bazhou Branch | 157.55
Fujian Province Jianyang Wuyi MSG Co., Ltd | Fujian Province Jianyang Wuyi MSG Co., Ltd | 157.55
Neimenggu Fufeng Biotechnologies Co., Ltd | Neimenggu Fufeng Biotechnologies Co., Ltd | 157.55
Baoji Fufeng Biotechnologies Co., Ltd | Baoji Fufeng Biotechnologies Co., Ltd | 157.55
PRC-wide Entity* |  | 157.59
* The PRC-wide entity includes Shandong Linghua Monosodium Glutamate Incorporated Company, a mandatory respondent in this investigation.

Suspension of Liquidation

In accordance with section 733(d) of the Act, we will instruct CBP to require a cash deposit for all suspended entries, on or after the date of the publication of this notice in the Federal Register, at an ad valorem rate equal to the weighted-average dumping margins, as indicated in the chart above. These suspension of liquidation instructions will remain in effect until further notice.

International Trade Commission (ITC) Notification

In accordance with section 733(f) of the Act, we have notified the ITC of our amended preliminary affirmative determination of sales at LTFV. Section 735(b)(2) of the Act requires the ITC to make its final determination as to whether the domestic industry in the United States is materially injured, or threatened with material injury, by reason of imports of MSG, or sales (or the likelihood of sales) for importation, of the merchandise under consideration within 45 days of our final determination.

Notification to Interested Parties

The Department will disclose calculations performed in connection with this amended preliminary determination within five days of the date of publication of this notice in accordance with 19 CFR 351.224(b).

This amended preliminary determination is issued and published in accordance with sections 733(f) and 777(i)(1) of the Act and 19 CFR 351.224(e).

Dated: June 9, 2014.
Paul Piquado,
Assistant Secretary for Enforcement and Compliance.

Appendix

List of Topics Discussed in the Ministerial Error Memorandum

1. Summary

2. Scope of the Investigation

3. Legal Authority

4. Analysis of Alleged Ministerial Errors

a. Foreign Inland Freight Distance from Factory to Port of Exportation

b. Sulfur Dioxide

c. Labor and Energy Costs Allocated to Corn Co-Products

d. Brokerage and Handling, Inland Freight Surrogate Value

e. Sodium Hydroxide in Aqueous Solution

f. Distances and Freight Charges for Certain Meihua Factors of Production

g. Organic Bacterial Protein By-Product

h. High Protein Scrap By-Product

5. Recommendation

[FR Doc. 2014-13893 Filed 6-12-14; 8:45 am]

BILLING CODE 3510-DS-P